DEPARTMENT OF HEALTH AND HUMAN SERVICES

Centers for Disease Control and Prevention

Healthcare Infection Control Practices Advisory Committee; Notice of Charter Amendment

AGENCY: Centers for Disease Control and Prevention (CDC), Department of Health and Human Services (HHS).

ACTION: Notice of charter amendment.

SUMMARY: This gives notice under (the Federal Advisory Committee Act of October 6, 1972, that the Healthcare Infection Control Practices Advisory Committee (HICPAC), Centers for Disease Control and Prevention, Department of Health and Human Services, has amended their charter in the Description of Duties and Agency or Official to whom the Committee reports, and sections throughout the document as follows: (1) The Office of Infectious Diseases (OID) has been renamed the Deputy Director for Infectious Diseases (DDID); (2) the Healthcare Facilities Accreditation Program and the National Association of Directors of Nursing Administration as non-voting liaison representatives have been removed; and (3) the addition of non-voting liaisons from the Organization for Safety, Asepsis, and Prevention; the National Rural Health Association; and the Patient Safety Action Network; and the addition of a non-voting ex officio member from the Indian Health Service. The amended filing date is August 28, 2020.

FOR FURTHER INFORMATION CONTACT: Michael Bell, M.D., Designated Federal Officer, HICPAC, Division of Healthcare Quality Promotion, National Center for Emerging and Zoonotic Infectious Diseases, CDC, l600 Clifton Road, NE, MS H16-3, Atlanta, Georgia 30329-4027; Telephone: 404-639-4000; Email: hicpac@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2020-20184 Filed 9-11-20; 8:45 am]

BILLING CODE 4163-18-P